DEPARTMENT OF LABOR

Mine Safety and Health Administration

30 CFR Parts 56, 57 and 77

[Docket No. MSHA-2018-0016]

RIN 1219-AB91

Safety Program for Surface Mobile Equipment

AGENCY: Mine Safety and Health Administration, Labor.

ACTION: Proposed rule; reopening of the rulemaking record for public comments; notice of public hearing.

SUMMARY: In response to a public request, the Mine Safety and Health Administration (MSHA) is reopening the rulemaking record for public comments and holding a virtual public hearing on the Agency's proposed rule addressing Safety Program for Surface Mobile Equipment.

DATES:

Hearing date: The virtual public hearing will be held on January 11, 2022.

Additional information on how to participate is listed below under SUPPLEMENTARY INFORMATION.

Reopening of the rulemaking record: The 60-day comment period for the proposed rule, published on September 9, 2021 (86 FR 50496), closed on November 8, 2021. In response to a public request, MSHA is now reopening the rulemaking record for additional public comments. All comments must be received or postmarked by 11:59 p.m. Eastern Standard Time on February 11, 2022.

ADDRESSES: Submit comments and informational materials, identified by RIN 1219-AB91 or Docket No. MSHA-2018-0016 by one of the following methods:

• Federal E Rulemaking Portal: http://www.regulations.gov. Follow the online instructions for submitting comments.

• E Mail: zzMSHA-comments@dol.gov.

• Mail: MSHA, Office of Standards, Regulations, and Variances, 201 12th Street South, Suite 4E401, Arlington, Virginia 22202-5452.

• Hand Delivery or Courier: 201 12th Street South, Suite 4E401, Arlington, Virginia, between 9:00 a.m. and 5:00 p.m. Eastern Standard Time Monday through Friday, except federal holidays. Before visiting MSHA in person, call 202-693-9440 to make an appointment, in keeping with the Department of Labor's COVID-19 policy. Special health precautions may be required.

• Fax: 202-693-9441.

Instructions: All submissions must include RIN 1219-AB91 or Docket No. MSHA 2018-0016. Do not include personal or proprietary information that you do not wish to disclose publicly. If a commenter marks parts of a comment as “business confidential” information, MSHA will not post those parts of the comment. Otherwise, MSHA will post all comments without change, including personal information.

Docket: For access to the docket to read comments and background documents, go to http://www.regulations.gov. The docket can also be reviewed in person at MSHA, Office of Standards, Regulations, and Variances, 201 12th Street South, Arlington, Virginia, between 9:00 a.m. and 5:00 p.m. (Eastern Standard Time) Monday through Friday, except federal holidays. Before visiting MSHA in person, call 202-693-9455 to make an appointment, in keeping with the Department of Labor's COVID-19 policy. Special health precautions may be required.

FOR FURTHER INFORMATION CONTACT: Aromie Noe, Acting Director, Office of Standards, Regulations and Variances, MSHA at Noe.Song-Ae.A@dol.gov (email), 202-693-9440 (voice) or 202-693-9441 (facsimile). (These are not toll free numbers).

SUPPLEMENTARY INFORMATION:

I. Background

On September 9, 2021, MSHA published a proposed rule (86 FR 50496) that would require that mine operators employing six or more miners develop and implement a written safety program for mobile and powered haulage equipment (excluding belt conveyors) at surface mines and surface areas of underground mines. The written safety program would include actions mine operators would take to identify hazards and risks to reduce accidents, injuries, and fatalities related to surface mobile equipment. The proposal would offer mine operators flexibility to devise a safety program that is appropriate for their specific mining conditions and operations. The 60-day comment period closed on November 8, 2021. However, in response to a public request, the MSHA will hold a virtual public hearing to receive additional comments and data from stakeholders on the proposed rule. The comment period is reopened until February 11, 2022. Comments received since November 8, 2021 will also be made a part of the rulemaking record.

II. Virtual Public Hearing

MSHA will hold a virtual public hearing on the proposed rule to provide the public with an opportunity to present oral statements and other information on this rulemaking.

The virtual public hearing will be held on January 11, 2022, and will begin at 10 a.m. Eastern Standard Time, and will end after the last presenter speaks.

The virtual public hearing will begin with an opening statement from MSHA, followed by an opportunity for members of the public to make oral presentations (see Public Participation information below). Speakers and other attendees may present information to MSHA for inclusion in the rulemaking record.

The virtual public hearing will be conducted in an informal manner. Formal rules of evidence or cross examination will not apply. A verbatim transcript of the proceeding will be prepared and made a part of the rulemaking record. Copies of the transcript will be available to the public. The transcript may also be viewed on MSHA's website at https://arlweb.msha.gov/currentcomments.asp.

Public Participation

A. To speak in the hearing:

• Those who wish to speak during the virtual public hearing are asked to register here (https://www.msha.gov/form/safety-program-surface-mobile-equipment-proposed-rule-virtual-public-hearing) by 5 p.m. Eastern Standard Time on Monday, January 10, 2022.

• Speakers will be called in the order in which they signed up. If you do not register in advance and you wish to speak, you will be called after all those who registered have spoken.

B. To participate by Phone or WebEx:

• Pre-registration is not required to attend the hearing.

• To attend by Phone:

• Dial the toll-free conference number: 877-465-7975.

• Attendee access code: 2760 635 2000.

• To attend by WebEx:

• To log into the virtual public hearing, go to: https://usdol.webex.com.

• Enter Meeting number: 2760 635 2000.

• Enter Meeting password: Welcome!24.

III. Request for Comments

MSHA is interested in any information and data associated with safety programs for surface mobile equipment. The Agency is particularly interested in any aspect of the safety programs that work best and are most effective. The Agency also is interested in comments on MSHA's proposal to require a written safety program for mine operators employing six or more miners. Please be very specific and include supporting rationale.

The Agency is interested in receiving comments from all members of the mining community and all interested stakeholders. MSHA will accept comments from any interested party, including those not presenting oral statements during the virtual public hearing. Where possible, specific examples to support the rationale are strongly encouraged. If a commenter marks parts of a comment as “business confidential” information, MSHA will not post those parts of the comment.

The comment period is reopened until February 11, 2022. All comments must be received or postmarked by 11:59 p.m. Eastern Standard Time on February 11, 2022.

Patricia W. Silvey,
Deputy Assistant Secretary of Labor for Mine Safety and Health.

[FR Doc. 2021-27478 Filed 12-17-21; 8:45 am]

BILLING CODE 4520-43-P